DEPARTMENT OF THE TREASURY

Submission for OMB Review; Comment Request

September 17, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 24, 2008 to be assured of consideration.

Alcohol and Tobacco Tax and Trade Bureau (TTB)

OMB Number: 1513-0103.

Type of Review: Extension.

Title: Tobacco Bond—Collateral and Tobacco Bond—Surety.

Forms: TTB F 5200.25, TTB F 5200.26.

Description: TTB requires a corporate surety bond or a collateral bond to ensure payment of the excise tax on tobacco products (TP) and cigarette paper and tubes (CP&T) removed from the factory or warehouse. These TTB forms identify the agreement to pay and the person from which TTB will attempt to collect any unpaid excise tax. Manufactures of TP or CP&T, export warehouse proprietors, and corporate sureties, if applicable, are the respondents for these forms.

Respondents: Businesses or other for-profit institutions

Estimated Total Burden Hours: 25 hours

OMB Number: 1513-0053

Type of Review: Extension

Title: Report of Wine Premises Operations

Form: TTB F 5120.17

Description: This report is used to monitor wine operations, ensure collection of wine tax revenue, and ensure wine is produced in accordance with law and regulations. This report also provides raw data for TTB's monthly statistical release on wine.

Respondents: Business and other for profits.

Estimated Total Burden Hours: 29,616 hours.

OMB Number: 1513-0030.

Type of Review: Extension.

Title: Claim—Alcohol, Tobacco, and Firearms Taxes.

Form: TTB F 5620.8, TTB F 5629.8.

Description: This form is used by taxpayers to show the basis for a credit remission and allowance of tax on loss of taxable articles, to request a refund or abatement on taxes excessively or erroneously collected, and to request a drawback of tax paid on distilled spirits used in the production on non-beverage products.

Respondents: Business and other for profits.

Estimated Total Burden Hours: 10,000 hours.

Clearance Officer: Frank Foote (202) 927-9347, Alcohol and Tobacco Tax and Trade Bureau, Room 200 East, 1310 G Street, NW., Washington, DC 20005.

OMB Reviewer: Alexander T. Hunt (202) 395-7316, Office of Management and Budget, Room 10235, New Executive Office Building, Washington, DC 20503.

Robert Dahl,
Treasury PRA Clearance Officer.

[FR Doc. E8-22322 Filed 9-23-08; 8:45 am]

BILLING CODE 4810-31-P